DEPARTMENT OF COMMERCE

National Oceanic and Atmospheric Administration

50 CFR Part 648

[ID 042403A]

RIN 0648-A010

Magnuson-Stevens Fishery Conservation and Management Act Provisions; Fisheries of the Northeastern United States; Northeast Skate Fisheries; Northeast Skate Fishery Management Plan

AGENCY: National Marine Fisheries Service (NMFS), National Oceanic and Atmospheric Administration (NOAA), Commerce.

ACTION: Notice of availability of a fishery management plan; request for comments.

SUMMARY: NMFS announces that the New England Fishery Management Council (Council) has submitted the Northeast Skate Fishery Management Plan (FMP) for Secretarial review and is requesting comments from the public. The FMP would establish a management program and fishing effort controls for the skate fisheries in the Northeast (NE). The goal of the management program is to rebuild overfished skate resources (thorny and barndoor skates) and prevent overfishing of all seven skate resources.

DATES: Comments must be received on or before June 30, 2003.

ADDRESSES: Comments on the FMP should be sent to Patricia A. Kurkul, Regional Administrator, NMFS, Northeast Regional Office, One Blackburn Drive, Gloucester, MA 01930. Mark the outside of the envelope, “Comments on Northeast Skate FMP.” Comments may also be sent via facsimile (fax) to (978) 281-9135. Comments will not be accepted if submitted via e-mail or the Internet.

Copies of the FMP, the Final Environmental Impact Statement (FEIS), Regulatory Impact Review (RIR), and the Initial Regulatory Flexibility Analysis (IRFA) are available from Paul J. Howard, Executive Director, New England Fishery Management Council, 50 Water Street, Mill 2, Newburyport, MA 01950.

FOR FURTHER INFORMATION CONTACT: Michael Pentony, Senior Fishery Policy Analyst, 978-281-9283, fax 978-281-9135.

SUPPLEMENTARY INFORMATION: The purpose of the FMP is to initiate management of the fisheries for the species in the NE skate complex (barndoor, clearnose, little, rosette, smooth, thorny, and winter skates) in Federal waters of the northeastern United States, pursuant to the Magnuson-Stevens Fishery Conservation and Management Act (Magnuson-Stevens Act). The FMP was developed by the Council in response to concerns that the continued development of and increased landings in the skate fisheries required implementation of management measures to prevent overfishing and to allow for the collection of catch information on the status of the stocks. Because two species of skates (barndoor and thorny skates) are considered overfished, this FMP is necessary to comply with the requirements of the Magnuson-Stevens Act to end overfishing and rebuild these species.

Skates are harvested in two very different fisheries, one for lobster bait and one for wings for human consumption. The fishery for lobster bait is a more traditional and directed skate fishery, involving vessels, primarily from ports in southern New England, that target a combination of little skates (estimated to be >90 percent of landings) and, to a much lesser extent, juvenile winter skates (<10 percent of landings). The catch of juvenile winter skates mixed with little skates is very difficult to differentiate, due to their nearly identical appearance. The fishery for skate wings evolved in the 1990s, as skates were promoted as an underutilized species and fishermen shifted effort from groundfish and other troubled fisheries to skates and dogfish. The wing fishery is a more incidental fishery that involves a larger number of vessels located throughout the region. Vessels tend to catch skates when targeting other species, such as groundfish and monkfish, and land them if the price is sufficient to offset the labor costs associated with cutting the wings.

The need to rebuild the overfished barndoor and thorny skate resources and prevent overfishing on the other five species are the primary problems needing management attention. Rebuilding overfished species is of particular concern because skates are relatively slow-growing, late-maturing species that produce few young, making them particularly vulnerable to overfishing.

A proposed rule that would implement the FMP will be published in the Federal Register for public comment, following NMFS' evaluation of the proposed rule under the procedures of the Magnuson-Stevens Act. Public comments on the proposed rule must be received by the end of the comment period on the FMP to be considered in the approval/disapproval decision on the FMP. All comments received by June 30, 2003, whether specifically directed to the FMP or the proposed rule, will be considered in the approval/disapproval decision on the FMP. Any comments on the proposed rule received after that date will not be considered in the decision to approve or disapprove the FMP.

Authority: 16 U.S.C. 1801 et seq.

Dated: April 25, 2003.
Richard W. Surdi,
Acting Director, Office of Sustainable Fisheries, National Marine Fisheries Service.

[FR Doc. 03-10678 Filed 4-30-03; 8:45 am]

BILLING CODE 3510-22-S